DEPARTMENT OF ENERGY

Federal Energy Regulatory Commission

[Project No. 1403-068]

Yuba County Water Agency; Notice of Application Tendered for Filing With the Commission and Establishing Procedural Schedule for Licensing and Deadline for Submission of Final Amendments

Take notice that the following hydroelectric application has been filed with the Commission and is available for public inspection.

a. Type of Application: New Major License.

b. Project No.: 1403-068.

c. Date Filed: November 14, 2023.

d. Applicant: Yuba County Water Agency.

e. Name of Project: Narrows Hydroelectric Project.

f. Location: The existing project is located on the Yuba River in Nevada County, California, approximately 23 miles northeast of the City of Marysville. The project affects 0.55 acres of Federal land managed by the U.S. Army Corps of Engineers.

g. Filed Pursuant to: Federal Power Act, 16 U.S.C. 791(a)-825(r).

h. Applicant Contact: Willie Whittlesey, General Manager, Yuba County Water Agency, 1220 F Street, Marysville, CA 95901; Telephone (530) 741-5000 or email WWhittlesey@yubawater.org.

i. FERC Contact: Rebecca Kipp, (202) 502-8846 or rebecca.kipp@ferc.gov.

j. Cooperating agencies: Federal, State, local, and Tribal agencies with jurisdiction and/or special expertise with respect to environmental issues that wish to cooperate in the preparation of the environmental document should follow the instructions for filing such requests described in item1 below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: January 13, 2024.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Narrows Hydroelectric Project (P-1403-068).

m. This application is not ready for environmental analysis at this time.

n. The existing Narrows Hydroelectric Project consists of the following facilities: (1) a 1,077-foot-long gunite-lined tunnel that connects a U.S. Army Corps of Engineers tunnel to the project penstock; (2) a 266-foot-long steel penstock with a diameter varying between 7.6 and 8 feet that connects the project tunnel to the project's powerhouse and includes a 277-foot-long surge structure; (3) an 82.5-foot by 43.6-foot by 92-foot concrete powerhouse containing a 48-inch-diameter bypass pipe and a single Francis turbine with a generating capacity of 12 megawatts; and (4) a powerhouse access tram. Yuba County Water Agency is not proposing any changes to project facilities or operation.

o. Copies of the application may be viewed on the Commission's website at http://www.ferc.gov using the “eLibrary” link. Enter the docket number excluding the last three digits in the docket number field to access the document (P-1403). For assistance, please contact FERC Online Support at FERCOnlineSupport@ferc.gov, (866) 208-3676 (toll free), or (202) 502-8659 (TTY). A copy is also available for inspection and reproduction at the address in item (h) above.

You may also register online at http://www.ferc.gov/docs-filing/esubscription.asp to be notified via email of new filings and issuances related to this or other pending projects. For assistance, contact FERC Online Support.

p. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

q. Procedural schedule and final amendments: the application will be processed according to the following preliminary schedule. Revisions to the schedule will be made as appropriate.

Milestone | Target date
Issue Deficiency Letter (if necessary) | January 2024.
Request Additional Information (if necessary) | January 2024.
Issue Scoping Document 1 for comments | March 2024.
Issue Acceptance Letter | April 2024.
Request Additional Information (if necessary) | May 2024.
Issue Scoping Document 2 (if necessary) | June 2024.
Issue Notice of Ready for Environmental Analysis | June 2024.

r. Final amendments to the application must be filed with the Commission no later than 30 days from the issuance date of the notice of ready for environmental analysis.

Dated: November 27, 2023.
Debbie-Anne A. Reese,
Deputy Secretary.

[FR Doc. 2023-26461 Filed 11-30-23; 8:45 am]

BILLING CODE 6717-01-P